ENVIRONMENTAL PROTECTION AGENCY

[EPA-HQ-OAR-2023-0111; FRL-11864-01-OMS]

Agency Information Collection Activities; Submission to the Office of Management and Budget for Review and Approval; Comment Request; NSPS for Asphalt Processing and Roofing Manufacture (Renewal)

AGENCY: Environmental Protection Agency (EPA).

ACTION: Notice.

SUMMARY: The Environmental Protection Agency (EPA) has submitted an information collection request (ICR), NSPS for Asphalt Processing and Roofing Manufacture (EPA ICR Number 0661.14, OMB Control Number 2060-0002), to the Office of Management and Budget (OMB) for review and approval in accordance with the Paperwork Reduction Act. This is a proposed extension of the ICR, which is currently approved through April 30, 2024. Public comments were previously requested via the Federal Register on May 18, 2023, during a 60-day comment period. This notice allows for an additional 30 days for public comments.

DATES: Comments may be submitted on or before May 10, 2024.

ADDRESSES: Submit your comments, referencing Docket ID Number EPA-HQ-OAR-2023-0111, to EPA online using www.regulations.gov/ (our preferred method), by email to a-and-r-docket@epa.gov, or by mail to: EPA Docket Center, Environmental Protection Agency, Mail Code 28221T, 1200 Pennsylvania Ave. NW, Washington, DC 20460. EPA's policy is that all comments received will be included in the public docket without change, including any personal information provided, unless the comment includes profanity, threats, information claimed to be Confidential Business Information (CBI), or other information whose disclosure is restricted by statute.

Submit written comments and recommendations to OMB for the proposed information collection within 30 days of publication of this notice to http://www.reginfo.gov/public/do/PRAMain. Find this specific information collection by selecting “Currently under Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through April 30, 2024. An agency may neither conduct nor sponsor, and a person is not required to respond to, a collection of information unless it displays a currently valid OMB control number.

Public comments were previously requested in the Federal Register on May 18, 2023, during a 60-Day comment period (88 FR 31748). This notice allows for an additional 30 days for public comments. Supporting documents, which explain in detail the information that the EPA will be collecting, are available in the public docket for this ICR. The docket can be viewed online at www.regulations.gov, or in person at the EPA Docket Center, WJC West Building, Room 3334, 1301 Constitution Ave. NW, Washington, DC. The telephone number for the Docket Center is 202-566-1744. For additional information about EPA's public docket, visit http://www.epa.gov/dockets.

Abstract: The New Source Performance Standards (NSPS) for Asphalt Processing and Roofing Manufacture (40 CFR part 60, subpart UU) were promulgated on August 6, 1982, and most-recently amended on February 27, 2014. These regulations apply to both existing and new saturators and mineral handling and asphalt storage facilities at asphalt roofing manufacturing plants and to asphalt storage tanks and blowing stills at asphalt processing plants, petroleum refineries, and asphalt roofing plants. New facilities include those that commenced construction, modification, or reconstruction after the date of proposal. This information is being collected to assure compliance with 40 CFR part 60, subpart UU.

Form Numbers: None.

Respondents/affected entities: Asphalt processing and asphalt roofing manufacture facilities.

Respondent's obligation to respond: Mandatory (40 CFR 60, Subpart UU).

Estimated number of respondents: 144 (total).

Frequency of response: Initially and semiannually.

Total estimated burden: 34,100 hours (per year). Burden is defined at 5 CFR 1320.3(b).

Total estimated cost: $11,700,000 (per year), which includes $7,430,000 in annualized capital//startup and/or operation & maintenance costs.

Changes in the estimates: There is no change in burden from the most recently approved ICR as currently identified in the OMB Inventory of Approved Burdens. This is due to two considerations: (1) the regulations have not changed over the past three years and are not anticipated to change over the next three years; and (2) the growth rate for this industry is very low or non-existent, so there is no significant change in the overall burden. There is a slight increase in costs, which is wholly due to the use of updated labor rates. There is an increase in capital/startup and/or operation & maintenance costs due to an adjustment to increase from 2008 to 2022 dollars using the CEPCI Equipment Cost Index.

Courtney Kerwin,
Director, Regulatory Support Division.

[FR Doc. 2024-07625 Filed 4-9-24; 8:45 am]

BILLING CODE 6560-50-P